DEPARTMENT OF ENERGY

Federal Energy Regulatory Commission

[Docket No. CP21-57-000]

Mountain Valley Pipeline, LLC; Notice of Schedule for the Preparation of an Environmental Assessment for the Proposed Amendment to the Certificate of Public Convenience and Necessity for the Mountain Valley Pipeline Project

On February 19, 2021, Mountain Valley Pipeline, LLC (Mountain Valley) filed an application in Docket No. CP21-057-000 requesting a Certificate of Public Convenience and Necessity pursuant to Section 7(c) of the Natural Gas Act amending Mountain Valley's certificate of public convenience and necessity for the Mountain Valley Pipeline Project (Amendment to the Certificate of Public Convenience and Necessity for the Mountain Valley Pipeline Project or Amendment Project) to grant Mountain Valley the ability to change the crossing method for specific wetlands and waterbodies yet to be crossed by the project from the open-cut crossings to one of several trenchless methods. The Amendment Project would affect certain natural gas pipeline facilities in Wetzel, Lewis, Webster, Nicholas, Greenbrier, Summers, and Monroe Counties, West Virginia and Giles, Montgomery, Roanoke, Franklin, and Pittsylvania Counties, Virginia. Mountain Valley also proposes two minor route adjustments to avoid crossing wetlands and waterbodies.

On March 1, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Amendment Project and the planned schedule for the completion of the environmental review.¹

¹ 40 CFR 1501.10 (2020).

Schedule for Environmental Review

Issuance of EA—August 13, 2021

90-day Federal Authorization Decision Deadline—November 11, 2021

If a schedule change becomes necessary, an additional notice will be provided so that the relevant agencies are kept informed of the Project's progress.

Project Description

On October 13, 2017, the FERC issued a Certificate of Public Convenience and Necessity for the Mountain Valley Pipeline Project under Docket CP16-010-000. The Mountain Valley Pipeline Project consists of approximately 303.5 miles of new natural gas pipeline and multiple aboveground facilities located in West Virginia and Virginia.

The Amendment Project would change 120 crossings of 182 waterbodies and wetlands from open-cut crossings to trenchless crossings (this includes 117 conventional bore crossings, 1 Direct Pipe crossing, and 2 guided conventional bore crossings). It also includes a minor route adjustment near milepost 230.8 to avoid the need to cross a waterbody; and a minor alignment shift and workspace adjustment near milepost 0.7 to avoid the need to cross a wetland.

Background

On March 16, 2021, the Commission issued a Notice of Scoping Period and Requesting Comments on Environmental Issues for the Proposed Amendment to the Certificate of Public Convenience and Necessity for the Mountain Valley Pipeline Project (Notice of Scoping). The Notice of Scoping was sent to affected landowners; Federal, State, and local government agencies; elected officials; environmental and public interest groups; Native American tribes; other interested parties; and local libraries and newspapers. In response to the Notice of Scoping, the Commission received comments from the Environmental Protection Agency, the Monacan Indian Nation, U.S. Senator Tim Kaine, Roanoke County, Franklin County Board of Supervisors, the Lewis County Commission, multiple non-government agencies, and multiple individuals and landowners. The primary issues, among others, raised by the commenters are the need for the Amendment Project, requests for additional environmental reviews, and concerns with permits, the geology in the Project area, groundwater and drinking water, environmental compliance, environmental justice and outreach, greenhouse gas and climate change, safety and feasibility, and cultural resources. All substantive comments will be addressed in the EA.

The U.S. Army Corps of Engineers is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the project is available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: June 11, 2021.
Kimberly D. Bose,
Secretary.

[FR Doc. 2021-12774 Filed 6-16-21; 8:45 am]

BILLING CODE 6717-01-P